DEPARTMENT OF ENERGY

Federal Energy Regulatory Commission

[Docket No. GT01-17-001]

Tennessee Gas Pipeline; Notice of Compliance Filing

June 14, 2001.

Take notice that on June 8, 2001, Tennessee Gas Pipeline Company (Tennessee), tendered for filing as part of its FERC Gas Tariff, Substitute Fourth Revised Sheet No. 406A, with an effective date of June 1, 2001.

Tennessee states that the referenced sheet is being filed to comply with the Tennessee's May 25, 2001, Letter Order in the captioned proceeding. In compliance with the Letter Order, Tennessee has revised Article XXXI of the General Terms and Conditions of its Tariff to reflect the Commission-approved language regarding gathering affiliate access. Tennessee requests that the referenced sheet be made effective June 1, 2001, subject to Tennessee's reserved rights to seek rehearing of the Letter Order and, if applicable, to modify the filing to reflect the outcome of any such rehearing or judicial review of these proceedings.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15520 Filed 6-19-01; 8:45 am]

BILLING CODE 6717-01-M